DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement, RFA-CE-16-002, Research to Advance Primary Care-Pharmacy Linkage for Medication Review to Reduce Older Adult Falls.

Time and Date: 11:30 a.m.-5:00 p.m., EDT, April 21, 2016 (CLOSED).

Place: Teleconference.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “Research to Advance Primary Care-Pharmacy Linkage for Medication Review to Reduce Older Adult Falls” FOA Number RFA-EC-16-002.

Contact Person for More Information: Jane Suen, Dr. P.H., M.S., Scientific Review Officer, CDC, 4770 Buford Highway NE., Mailstop F63, Atlanta, Georgia 30341-3724, Telephone: (770) 488-4281.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2016-06348 Filed 3-21-16; 8:45 am]

BILLING CODE 4163-18-P